DEPARTMENT OF STATE

Bureau of Nonproliferation

[Public Notice 4107]

Determination Under the Arms Export Control Act

AGENCY: Department of State.

ACTION: Notice.

Pursuant to section 654(c) of the Foreign Assistance Act of 1961, as amended, notice is hereby given that the Secretary of State has made a determination pursuant to section 73 of the Arms Export Control Act and has concluded that publication of the determination would be harmful to the national security of the United States.

Dated: August 20, 2002.
Susan F. Burk,
Acting Assistant Secretary of State for Nonproliferation, Department of State.

[FR Doc. 02-21672 Filed 8-22-02; 8:45 am]

BILLING CODE 4710-25-P